DEPARTMENT OF TRANSPORTATION

Federal Highway Administration

Environmental Impact Statement: Hamilton and Clermont Counties, OH, and Campbell County, KY

AGENCY: Federal Highway Administration (FHWA), DOT.

ACTION: Notice of intent.

SUMMARY: The FHWA is issuing this notice to advise the public that a Tiered Environmental Impact Statement (EIS) may be prepared for proposed multi-modal transportation projects in Hamilton and Clermont Counties, Ohio, and Campbell County, Kentucky.

FOR FURTHER INFORMATION CONTACT: Mark L. Vonder Embse, Urban Programs Engineer, Federal Highway Administration, 200 North High Street, Room 328, Columbus, Ohio 43215, Telephone: (614) 280-6854.

SUPPLEMENTARY INFORMATION: The FHWA, in cooperation with the Ohio Department of Transportation (ODOT) and the Hamilton County Transportation Improvement District (HCTID), will prepare a Tiered Environmental Impact Statement for proposed improvements in the Eastern Corridor of the City of Cincinnati, Ohio. Covering approximately 200 square miles, the study area extends from the Cincinnati Business District east to the Communities of Milford, Batavia, and Amelia in Clermont County, and south into Northern Kentucky along I-275 and I-471.

The purpose and need of the project are to improve mobility and alleviate congestion in the Eastern Corridor. Alternatives under consideration include (1) Taking no action; and (2) a combination of the following: (a) Constructing a new highway on new location; (b) construction of new transit facilities; and (c) upgrading existing highway and transit facilities. FHWA, ODOT, HCTID and local agencies will be invited to participate in defining the alternatives to be evaluated in the Tiered EIS, and any significant social, economic, or environmental issues related to the alternatives.

The purpose of this Tiered EIS is to document in a Record of Decision specific segments and their termini within the Eastern Corridor. The first tier will focus on broad issues such as general location, mode choice, and area-wide air quality and land use implications of the major alternatives. These individual projects will then advance as independent projects with individual NEPA decisions. The second tier will address site-specific details on project impacts, costs, and mitigation measures.

Letters describing the proposed action and soliciting comments will be sent to appropriate Federal, State, and local agencies and to private organizations and citizens who have previously expressed or are known to have interest in this proposal. A series of public meetings will be held in the project area. In addition, a public hearing will be held. Public notice will be given of the time and place of the meetings and hearing. A draft of the Tiered EIS will be available for public and agency review and comment prior to the public hearing. Scoping activities will be conducted.

To ensure that the full range of issues related to this proposed action are identified and addressed, comments and suggestions are invited from all interested parties. Comments or questions concerning this proposed action should be sent to the FHWA at the address provided above.

(Catalog of Federal Domestic Assistance Program Number 20.205, Highway Planning and Construction. The regulations implementing Executive Order 12372 regarding intergovernmental consultation on Federal programs and activities apply to this program)
Issued on: May 21, 2002.
Mark L. Vonder Embse,
Urban Programs Engineer, Federal Highway Administration, Columbus, Ohio.

[FR Doc. 02-13830 Filed 5-31-02; 8:45 am]

BILLING CODE 4910-22-M